DEPARTMENT OF COMMERCE

National Oceanic and Atmospheric Administration

National Sea Grant College Program (NSGCP)

AGENCY: National Oceanic and Atmospheric Administration (NOAA), Department of Commerce (DOC).

ACTION: Notice of solicitation of letters of intent to apply to become the Lake Champlain Sea Grant Institutional Program.

SUMMARY: The National Sea Grant College Program is requesting letters of intent from eligible applicants to become a Sea Grant Institutional Program serving the Lake Champlain Region. An Institutional Program can be defined as a program that has demonstrated competence as a Coherent Area Program (or higher status) and has broad responsibilities for the development of Sea Grant state, regional, and national activities, engaging all of the institutions of higher learning in the region. Only institutions that have been the host entity of a Sea Grant Coherent Area Program for at least three years are eligible to apply. The National Sea Grant College Act of 1976, as amended, (the “Act” hereinafter) authorizes the NOAA to designate a Sea Grant institution on the basis of merit and that such designation is consistent with the goals of the Act.

DATES: Letters of intent must be received by April, 28, 2017, 5:00 p.m. EDT.

ADDRESSES: Letters of intent will be accepted by email or mail. Email is preferred. Mail letters should be sent to: Attention: Lake Champlain Institutional Program, Director, National Sea Grant College Program, National Oceanic and Atmospheric Administration, 1315 East-West Highway, SSMC 3, Room 11735, Silver Spring, Maryland 20910.

Letters may be attached to an email to oar.sg.info-admin@noaa.gov. Please put “Lake Champlain Institutional Program” in the Subject line. All letters of intent will be acknowledged. If you do not receive an acknowledgement of your letter of intent within two weeks of sending it, please contact us using the information in FOR FURTHER INFORMATION CONTACT.

FOR FURTHER INFORMATION CONTACT: For any additional questions concerning this solicitation, please contact Elizabeth Rohring at 301-734-1082 or by email at elizabeth.rohring@noaa.gov. Please put “Lake Champlain Institutional Status” in the subject line.

SUPPLEMENTARY INFORMATION: Currently, 33 Sea Grant Programs are located in coastal and Great Lakes states. These Programs are partnerships between the Federal government and universities or other institutions with higher learning mandates, funded by Federal grants. More information about the National Sea Grant College Program can be found at http://seagrant.noaa.gov/.

There is currently no Sea Grant Program whose main area of service is Lake Champlain that has been recognized with Institutional or College status.

Eligibility to Apply: To be eligible to apply to this solicitation, an institution must have been the host entity of a Sea Grant Coherent Area Program for a minimum of three years. A “Coherent Area Program” is a grant-funded program selected by NOAA in order to conduct Sea Grant activities limited in geographic area and/or scope. All Coherent Area Programs are subject to Sea Grant review procedures and are periodically evaluated against Sea Grant project evaluation criteria.

A group of institutions may together apply to this solicitation, if at least one major member of this group has been the host entity of Coherent Area Program as described above.

A letter of intent must include:

• A non-binding statement of intent to submit a full proposal to be considered for a Lake Champlain Institutional Sea Grant Program;

• Identification (name, address, and type of organization) of the institution, or group of institutions, that will submit the application;

• Affirmation that the sender of the letter is authorized to represent that institution or group in seeking designation as an Institutional Sea Grant Program;

• Name and contact details (including email address) of the person to whom correspondence and full application information should be sent.

Eligible applicants who submit a letter of intent will be provided a complete information package on how to prepare and submit a full application, the criteria against which the application will be evaluated (which are drawn from regulation at 15 CFR 918.3 “Eligibility, qualifications, and responsibility of a Sea Grant College”), the evaluation procedure (which may include both document review and a site visit), and the conditions on the institution or group that are associated with accepting Sea Grant Institutional Program status.

Dated: March 29, 2017.
Paul Johnson,
Acting Deputy Chief Financial Officer/CAO, Office of Oceanic and Atmospheric Research, National Oceanic and Atmospheric Administration.

[FR Doc. 2017-06541 Filed 3-31-17; 8:45 am]

BILLING CODE 3510-KA-P